DEPARTMENT OF ENERGY

Federal Energy Regulatory Commission

Combined Notice of Filings #1

February 22, 2008.

Take notice that the Commission received the following electric rate filings:

Docket Numbers: ER06-1280-001, ER00-2181-004, ER02-556-008.

Applicants: Hess Corporation; Hess Energy, Inc.; Select Energy New York, Inc.

Description: Hess Corporation et al. submit a notice of change in status and updated market-based rate schedules in compliance with Order 697.

Filed Date: 02/19/2008.

Accession Number: 20080221-0080.

Comment Date: 5 p.m. Eastern Time on Tuesday, March 11, 2008.

Docket Numbers: ER07-583-004.

Applicants: Commonwealth Edison Company.

Description: Commonwealth Edison Company of Indiana Inc submits its filing in compliance with 1/18/08 order.

Filed Date: 02/19/2008.

Accession Number: 20080221-0040.

Comment Date: 5 p.m. Eastern Time on Tuesday, March 11, 2008.

Docket Numbers: ER08-379-001.

Applicants: Rensselaer Cogeneration LLC.

Description: Rensselaer Cogeneration LLC submits their amended proposed market based rate tariff entitled FERC Electric Tariff First Revised, Volume No.1.

Filed Date: 02/20/2008.

Accession Number: 20080222-0111.

Comment Date: 5 p.m. Eastern Time on Wednesday, March 12, 2008.

Docket Numbers: ER08-412-001.

Applicants: Commonwealth Edison Company.

Description: Commonwealth Edison Company's Supplement Letter to the January 4, 2008 Application Regarding Wholesale Sales.

Filed Date: 02/21/2008.

Accession Number: 20080221-5017.

Comment Date: 5 p.m. Eastern Time on Monday, March 3, 2008.

Docket Numbers: ER08-575-000.

Applicants: Southern California Edison Company.

Description: Southern California Edison Co's Service Agreement 27 with City of Riverside under Wholesale Distribution Access Tariff, FERC Electric Tariff, First Revised Volume No. 5.

Filed Date: 02/19/2008.

Accession Number: 20080220-0204.

Comment Date: 5 p.m. Eastern Time on Tuesday, March 11, 2008.

Docket Numbers: ER08-576-000.

Applicants: Wisconsin Electric Power Company.

Description: Wisconsin Electric Power Company submits clean and redlined tariff sheets amending and revising certain term and conditions in Wisconsin Electric's FERC Electric Tariff, Second Revised Volume 2.

Filed Date: 02/19/2008.

Accession Number: 20080220-0205.

Comment Date: 5 p.m. Eastern Time on Tuesday, March 11, 2008.

Docket Numbers: ER08-577-000.

Applicants: Noble Bellmont Windpark, LLC.

Description: Noble Bellmont Windpark, LLC submit application for order accepting initial tariff, waiving regulations, and granting blanket approvals.

Filed Date: 02/19/2008.

Accession Number: 20080220-0206.

Comment Date: 5 p.m. Eastern Time on Tuesday, March 11, 2008.

Docket Numbers: ER08-578-000.

Applicants: Noble Chateaugay Windpark, LLC.

Description: Noble Chateaugay Windpark, LLC submits application for Order Accepting Initial Tariff, Waiving Regulations and Granting Blanket Approvals.

Filed Date: 02/19/2008.

Accession Number: 20080220-0208.

Comment Date: 5 p.m. Eastern Time on Tuesday, March 11, 2008.

Docket Numbers: ER08-579-000.

Applicants: Noble Wethersfield Windpark, LLC.

Description: Noble Wethersfield Windpark, LLC submits application for Order Accepting Initial Tariff, Waving Regulations and Granting Blanket Approvals.

Filed Date: 02/19/2008.

Accession Number: 20080220-0207.

Comment Date: 5 p.m. Eastern Time on Tuesday, March 11, 2008.

Docket Numbers: ER08-580-000.

Applicants: Ontario Energy Trading International Corporation.

Description: Ontario Power Generation Energy Trading, Inc submits a Notice of Succession notifying the Commission that effective 2/20/08 they will succeed to their FERC Electric Tariff, Original Volume.

Filed Date: 02/20/2008.

Accession Number: 20080221-0036.

Comment Date: 5 p.m. Eastern Time on Wednesday, March 12, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-4203 Filed 3-4-08; 8:45 am]

BILLING CODE 6717-01-P